DEPARTMENT OF TRANSPORTATION

Federal Railroad Administration

[Docket Number FRA-2018-0034]

Petition for Waiver of Compliance

Under part 211 of Title 49 Code of Federal Regulations (CFR), this document provides the public notice that on March 14, 2018, BNSF Logistics (BNSF-L) petitioned the Federal Railroad Administration (FRA) for a waiver of compliance from certain provisions of the Federal railroad safety regulations contained at 49 CFR part 231, Railroad Safety Appliance Standards, and Association of American Railroads (AAR) Standard S-2044, Appendix D1, which governs the Safety Appliances for Flatcars with Full Decks. FRA assigned the petition Docket Number FRA-2018-0034.

BNSF-L seeks relief to allow the transport of wind towers and wind turbine blades by removing tall hand grabs at the corners of flatcars that can foul the loaded cars with the towers and blades. Specifically, BNSF-L proposes to:

• Remove any tall handgrabs that could be damaged by lading during the initial loading.

• Provide formal, engineered storage on each car for the removed tall handgrabs.

• Add a handgrab to the side sill that extends at least 6″ above the deck and is between 27″ to 34″ above the sill step.

• Apply decals stating that “This location not suitable for riding” to mark these locations.

• Disable the coupler on both cars where the overhang is located to prevent uncoupling. Note that in many cases this location is equipped with a drawbar instead of couplers.

• Reapply standard safety appliances and remove the decals only when car is released from unit wind service.

BNSF-L believes this proposal will avoid damage to safety appliances and cargo.

A copy of the petition, as well as any written communications concerning the petition, is available for review online at www.regulations.gov and in person at the U.S. Department of Transportation's (DOT) Docket Operations Facility, 1200 New Jersey Avenue SE, W12-140, Washington, DC 20590. The Docket Operations Facility is open from 9 a.m. to 5 p.m., Monday through Friday, except Federal Holidays.

Interested parties are invited to participate in these proceedings by submitting written views, data, or comments. FRA does not anticipate scheduling a public hearing about these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Avenue SE, W12-140, Washington, DC 20590.

• Hand Delivery: 1200 New Jersey Avenue SE, Room W12-140, Washington, DC 20590, between 9 a.m. and 5 p.m., Monday through Friday, except Federal Holidays.

Communications received by June 15, 2018, will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
Robert C. Lauby,
Associate Administrator for Railroad Safety, Chief Safety Officer.

[FR Doc. 2018-09121 Filed 4-30-18; 8:45 am]

BILLING CODE 4910-06-P